DEPARTMENT OF LABOR

Employment and Training Administration

Comment Request for Information Collection for 1205-0179: Unemployment Compensation for Federal Employees Handbook No. 391, Extension Without Revision

AGENCY: Employment and Training Administration (ETA), Labor.

ACTION: Notice.

SUMMARY: The Department of Labor (Department), as part of its continuing effort to reduce paperwork and respondent burden, conducts a preclearance consultation program to provide the public and Federal agencies with an opportunity to comment on proposed and/or continuing collections of information in accordance with the Paperwork Reduction Act of 1995 [44 U.S.C. 3506(c)(2)(A)]. This program helps ensure that requested data can be provided in the desired format, reporting burden (time and financial resources) is minimized, collection instruments are clearly understood, and the impact of collection requirements on respondents can be properly assessed.

Currently, ETA is soliciting comments concerning the collection of data about Unemployment Compensation for Federal Employees which expires October 31, 2015.

DATES: Written comments must be submitted to the office listed in the addresses section below on or before June 15, 2015.

ADDRESSES: Send written comments to Stephanie Garcia, Office of Unemployment Insurance, Room S-4524, Employment and Training Administration, U.S. Department of Labor, 200 Constitution Avenue NW., Washington, DC 20210. Telephone number: 202-693-3207 (this is not a toll-free number). Individuals with hearing or speech impairments may access the telephone number above via TTY by calling the toll-free Federal Information Relay Service at 1-877-889-5627 (TTY/TDD). Email: garcia.stephanie@dol.gov. To obtain a copy of the proposed information collection request (ICR), please contact the person listed above.

SUPPLEMENTARY INFORMATION:

I. Background

Chapter 5 U.S.C. 8506 states that “Each agency of the United States and each wholly or partially owned instrumentality of the United States shall make available to State agencies which have agreements, or to the Secretary of Labor, as the case may be, such information concerning the Federal service and Federal wages of a Federal employee as the Secretary considers practicable and necessary for the determination of the entitlement of the Federal employee to compensation under this subchapter.” The information shall include the findings of the employing agency concerning:

(1) Whether or not the Federal employee has performed Federal service;

(2) The periods of Federal service;

(3) The amount of Federal wages; and

(4) The reasons for termination of Federal service.

The law (5 U.S.C. 8501, et seq.) requires State Workforce Agencies (SWA's) to administer the Unemployment Compensation for Federal Employees (UCFE) program in accordance with the same terms and provisions of the paying State's unemployment insurance law which apply to unemployed claimants who worked in the private sector. SWA's must be able to obtain certain information (wage, separation data) about each claimant filing claims for UCFE benefits to enable them to determine his/her eligibility for benefits. The Department of Labor has prescribed forms to enable SWAs to obtain this necessary information from the individual's Federal employing agency. Each of these forms is essential to the UCFE claims process and the frequency of use varies depending upon the circumstances involved. The UCFE forms are: ETA-931, ETA-931A, ETA-933, ETA-934, and ETA-935.

II. Review Focus

The Department is particularly interested in comments which:

• Evaluate whether the proposed collection of information is necessary for the proper performance of the functions of the agency, including whether the information will have practical utility;

• evaluate the accuracy of the agency's estimate of the burden of the proposed collection of information, including the validity of the methodology and assumptions used;

• enhance the quality, utility, and clarity of the information to be collected; and

• minimize the burden of the collection of information on those who are to respond, including through the use of appropriate automated, electronic, mechanical, or other technological collection techniques or other forms of information technology, e.g., permitting electronic submissions of responses.

III. Current Actions

Type of Review: Extension without revision.

Title: Unemployment Compensation for Federal Employees Handbook No. 391.

OMB Number: 1205-0179.

Affected Public: State Workforce Agency.

Estimated Total Annual Respondents: 53.

Estimated Total Annual Responses: 151,050.

Estimated Total Annual Burden Hours: 15,024.

Total Estimated Annual Other Cost Burden: 0.

Form | Annual frequency | Total responses | Average time per response (minutes) | Burden (hours)
ETA-931 | 1 | 77,000 | 5 | 6,416
ETA-931A | 1 | 24,000 | 5 | 2,000
ETA-935 | 1 | 38,500 | 9 | 5,775
ETA-933 | 1 | 3,850 | 5 | 320
ETA-934 | 1 | 7,700 | 4 | 513
Totals | 5 | 151,050 |  | 15,024

We will summarize and/or include in the request for OMB approval of the ICR, comments received in response to this comment request; they will also become a matter of public record.

Portia Wu,
Assistant Secretary for Employment and Training, Labor.

[FR Doc. 2015-08725 Filed 4-15-15; 8:45 am]

BILLING CODE 4510-FW-P